DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of December, 2002.

In order for an affirmative determination to be made and a certification of eligibility to apply for worker adjustment assistance to be issued, each of the group eligibility requirements of Section 222 of the Act must be met.

(1) That a significant number or proportion of the workers in the workers' firm, or an appropriate subdivision thereof, have become totally or partially separated, or are threatened to become totally or partially separated; and

(2) That sales or production, or both, of the firm or sub-division have decreased absolutely, and

(3) That increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

TA-W-42,354; Kalmar Industries Corp., White Oak, TX

TA-W-41,940; Precision Threading Corp. d/b/a Cheboygan Tap and Tool Co., Cheboygan, MI

In the following cases, the investigation revealed that the criteria for eligibility have not been met for the reasons specified.

Increased imports did not contribute importantly to worker separations at the firm.

TA-W-42,261; Eybl Cartex, Inc., a Div. of Eybl International, Fountain Inn, SC

The workers firm does not produce an article as required for certification under Section 222 of the Trade Act of 1974.

TA-W-42,358; Pratt and Whitney, a Div. of United Technologies Corp., Tulsa Airfoil Repair Operations, Claremore, OK

TA-W-42,121; Agere Systems, Inc., Infrastructure Div., Laser Realization Group, Formerly Lucent Technologies, Inc., Microelectronics Business, Breinigsville, PA

Affirmative Determinations for Worker Adjustment Assistance

The following certifications have been issued; the date following the company name and location of each determination references the impact date for all workers of such determination.

TA-W-42,301; Tennecast/CDT, Barberton, OH: October 21, 2001.

TA-W-42,297; Choctaw Electronics Enterprise, Choctaw, MS: October 11, 2001

TA-W-42,293; Rollway Bearing Corp., Liverpool, NY: September 25, 2001.

TA-W-42,227; Jabil Circuit, Inc., Meridian, ID: September 23, 2001.

TA-W-42,104; Motor Products Corp., Barberton, OH: August 14, 2001.

TA-W-41,979; Corning Cable Systems, Pedestal Production, Strafford, MS: July 29, 2001. 2001.

The following certifications have been issued. The requirements of (a)(2)(A) (increased imports) of section 222 have been met.

TA-W-50,057; Evans Rule Co., Inc., a Div. of The L.S. Starrett Co., Charleston, SC: November 12, 2001.

TA-W-50,040; Vista Wood Products, Greensburg, KY: November 7, 2001.

TA-W-50,037; The Hubbard Co., Bremen, GA: November 6, 2001.

TA-W-50,001; Reliant Bolt, Inc., Bedford Park, IL: November 4, 2001.

The following certifications have been issued. The requirements of (a)(2)(B) (shift in production) of section 222 have been met.

TA-W-50,228; Lau Industries, Inc., Indianapolis, IN: December 2, 2001.

TA-W-50,212 & A; Lakeside Machine, Inc., Gladstone, MI and Escanaba, MI: November 27, 2001.

TA-W-50,143; True North Enterprises, L.P., La Feria, TX: November 19, 2001.

Also, pursuant to Title V of the North American Free Trade Agreement Implementation Act (Pub. L. 103-182) concerning transitional adjustment assistance hereinafter called (NAFTA-TAA) and in accordance with section 250(a), subchaper D, chapter 2, Title II, of the Trade Act as amended, the Department of Labor presents summaries of determinations regarding eligibility to apply for NAFTA-TAA issued during the month of December, 2002.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-07572; Precision Threading Corp. d/b/a Cheboygan Tap and Tool, Cheboygan, MI

The investigation revealed that the criteria for eligibility have not been met for the reasons specified.

The investigation revealed that criteria (1) has not been met. A Significant number or proportion of the workers in such workers' firm or an appropriate subdivision (including workers in any agricultural firm or appropriate subdivision thereof) did not become totally or partially separated from employment as required for certification.

NAFTA-TAA-07504; State of Alaska Commercial Fisheries Entry Commission Permit #65058M, Togiak, AK

NAFTA-TAA-07411; State of Alaska Commercial Fisheries Entry Commission Permit #56738W, Iliamna, AK

NAFTA-TAA-07335; State of Alaska Commercial Fisheries Entry Commission, Permit #60891H, Naknek, AK

NAFTA-TAA-07333; State of Alaska Commercial Fisheries Entry Commission Permit #58138R, Naknek, AK

NAFTA-TAA-07219; State of Alaska Commercial Fisheries Entry Commission Permit #59285C, Egegik, AK

NAFTA-TAA-06688; State of Alaska Commercial Fisheries Entry Commission Permit #SO3T57785G, Dillingham, AK

Affirmative Determinations NAFTA-TAA

NAFTA-TAA-07590; Jabil Circuit, Inc., Meridian, ID: September 23, 2001.

NAFTA-TAA-07643; Lau Industries, Inc., Indianapolis, IN: October 29, 2001.

NAFTA-TAA-06535; American Meter Co., Industrial Products Unit, Erie, PA: September 9, 2001.

I hereby certify that the aforementioned determinations were issued during the month of December, 2002. Copies of these determinations are available for inspection in Room C-5311, U.S. Department of Labor, 200 Constitution Avenue, NW., Washington, DC 20210 during normal business hours or will be mailed to persons who write to the above address.

Dated: December 16, 2002.
Edward A. Tomchick,
Director, Division of Trade Adjustment Assistance.

[FR Doc. 02-32591 Filed 12-24-02; 8:45 am]

BILLING CODE 4510-30-P